DEPARTMENT OF TRANSPORTATION

Federal Aviation Administration

14 CFR Part 39

[Docket No. 98-ANE-61-AD]

RIN 2120-AA64

Airworthiness Directives; Pratt & Whitney PW2000 Series Turbofan Engines

AGENCY: Federal Aviation Administration (FAA), DOT.

ACTION: Notice of proposed rulemaking (NPRM).

SUMMARY: The FAA proposes to supersede an existing airworthiness directive (AD) for Pratt & Whitney (PW) PW2000 series turbofan engines. That AD currently requires revisions to the engine manufacturer's time limits section (TLS) to include enhanced inspection of selected critical life-limited parts at each piece-part opportunity. This proposed AD would modify the airworthiness limitations section of the manufacturer's manual and an air carrier's approved continuous airworthiness maintenance program to incorporate additional inspection requirements. An FAA study of in-service events involving uncontained failures of critical rotating engine parts has indicated the need for mandatory inspections. The mandatory inspections are needed to identify those critical rotating parts with conditions, which if allowed to continue in service, could result in uncontained failures. We are proposing this AD to prevent critical life-limited rotating engine part failure, which could result in an uncontained engine failure and damage to the airplane.

DATES: We must receive any comments on this proposed AD by October 18, 2004.

ADDRESSES: Use one of the following addresses to submit comments on this proposed AD:

• By mail: Federal Aviation Administration (FAA), New England Region, Office of the Regional Counsel, Attention: Rules Docket No. 98-ANE-61-AD, 12 New England Executive Park, Burlington, MA 01803-5299.

• By fax: (781) 238-7055.

• By e-mail: 9-ane-adcomment@faa.gov.

You may examine the AD docket at the FAA, New England Region, Office of the Regional Counsel, 12 New England Executive Park, Burlington, MA.

FOR FURTHER INFORMATION CONTACT: Mark Riley, Aerospace Engineer, Engine Certification Office, FAA, Engine and Propeller Directorate, 12 New England Executive Park, Burlington, MA 01803-5299; telephone (781) 238-7758, fax (781) 238-7199.

SUPPLEMENTARY INFORMATION:

Comments Invited

We invite you to submit any written relevant data, views, or arguments regarding this proposal. Send your comments to an address listed under ADDRESSES. Include “AD Docket No. 98-ANE-61-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

On June 4, 2002, the FAA issued airworthiness directive (AD) 2002-12-06, Amendment 39-12778 (67 FR 40143, June 12, 2002), to require revisions to the Time Limits Section (TLS) of the PW2000 Turbofan Engine Manual to include required enhanced inspection of selected critical life-limited parts at each piece-part opportunity.

New Inspection Procedures

Since the issuance of that AD, an FAA study of in-service events involving uncontained failures of critical rotating engine parts has indicated the need for additional mandatory inspections. The mandatory inspections are needed to identify those critical rotating parts with conditions, which if allowed to continue in service, could result in uncontained failures. This proposal would modify the TLS of the manufacturer's manual and an air carrier's approved continuous airworthiness maintenance program to incorporate the additional inspection requirements.

FAA's Determination of an Unsafe Condition and Proposed Actions

Since an unsafe condition has been identified that is likely to exist or develop on other PW2000 series turbofan engines of the same type design, the proposed AD would supersede AD 2002-12-06 to add additional inspection requirements for critical life-limited parts for enhanced inspection at each piece-part opportunity.

Costs of Compliance

There are about 938 Pratt & Whitney PW2000 series turbofan engines of the affected design in the worldwide fleet. We estimate that 777 engines installed on airplanes of U.S. registry would be affected by this proposed AD. We also estimate that it would take about 4 work hours per engine to perform the proposed inspections, and that the average labor rate is $65 per work hour. Since this is an added inspection requirement, included as part of the normal maintenance cycle, no additional part costs are involved. Based on these figures, the total additional cost per engine per shop visit is estimated to be $260. Based on the current PW2000 engine shop visit rate, the total additional cost for the PW2000 fleet is estimated to be $80,860 per year.

Regulatory Findings

We have determined that this proposed AD would not have federalism implications under Executive Order 13132. This proposed AD would not have a substantial direct effect on the States, on the relationship between the national government and the States, or on the distribution of power and responsibilities among the various levels of government.

For the reasons discussed above, I certify that this proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 98-ANE-61-AD” in your request.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing Amendment 39-12778, (67 FR 40143 June 4, 2002), and by adding a new airworthiness directive (AD) to read as follows:

Pratt & Whitney: Docket No. 98-ANE-61-AD. Supersedes AD 2002-12-06, Amendment 39-12778.

Comments Due Date

(a) The FAA must receive comments on this AD action by October 18, 2004.

Affected ADs

(b) This AD supersedes AD 2002-12-06.

Applicability

(c) This AD applies to Pratt & Whitney (PW) PW2037, PW2040, PW2043, PW2143, PW2240, PW2337, PW2643, PW2037D, PW2037M, and PW2040D series turbofan engines. These engines are installed on, but not limited to Boeing 757 series and Ilyushin IL-96T series airplanes.

Unsafe Condition

(d) This AD results from the need to require enhanced inspection of selected critical life-limited parts of PW PW2000 series turbofan engines. We are issuing this AD to prevent critical life-limited rotating engine part failure, which could result in an uncontained engine failure and damage to the airplane.

Compliance

(e) You are responsible for having the actions required by this AD performed within the compliance times specified unless the actions have already been done.

(f) Within 30 days after the effective date of this AD, revise the manufacturer's Time Limits section (TLS) of the manufacturer's engine manual, as appropriate for PW PW2037, PW2040, PW2043, PW2143, PW2240, PW2337, PW2643, PW2037D, PW2037M, and PW2040D series turbofan engines, and for air carriers revise the approved continuous airworthiness maintenance program, by adding the following:

MANDATORY INSPECTIONS

(1) Perform inspections of the following parts at each piece-part opportunity in accordance with the instructions provided in PW2000 Engine Manuals 1A6231 and 1B2412:

Nomenclature | Part No. | EM manual section | Inspection/check | Subtask
Hub, LPC Assembly | ALL | 72-31-04 | -06
Disk, HPT 1st Stage | ALL | 72-52-02 | FPI entire disk per 72-52-00, Inspection/Check-02 | 72-52-02-230-007
Hub, HPT 2nd Stage | ALL | 72-52-16 | (a) FPI entire hub per 72-52-00, Inspection/Check-02 | 72-52-16-230-007
|  |  | (b) Eddy current inspect hub bolt holes per 72-52-00, Inspection/Check-05 | 72-52-16-200-005
Hub, HPC Front | ALL | 72-35-02 | -05
Disk, HPC Drum | ALL | 72-35-03 | -04
Rotor Assembly (7-15) |  |  |
Disk, HPC Drum Rotor Assembly (16-17) | ALL | 72-35-10 | -05
Disk, HPC 16th Stage | ALL | 72-35-06 | -04
Disk, HPC 17th Stage | ALL | 72-35-07 | -04
HPC Turbine Drive Shaft Assembly | ALL | 72-35-08 | -05
LPC Drive Turbine Shaft | ALL | 72-32-01 | -06
Hub, Turbine Rear | ALL | 72-53-81 | -06
Disk, LPT 3rd stage | ALL | 72-53-31 | -01
Disk, LPT 4th Stage | ALL | 72-53-41 | -01
Disk, LPT 5th Stage | ALL | 72-53-51 | -01
Disk, LPT 6th Stage | ALL | 72-53-61 | -01
Disk, LPT 7th Stage | ALL | 72-53-71 | -01

(2) For the purposes of these mandatory inspections, piece-part opportunity means:

(i) The part is considered completely disassembled when done in accordance with the disassembly instructions in the manufacturer's engine manual to either part number level listed in the table above, and

(ii) The part has accumulated more than 100 cycles in service since the last piece-part opportunity inspection, provided that the part was not damaged or related to the cause for its removal from the engine.”

Alternative Methods of Compliance

(g) You must perform these mandatory inspections using the TLS and the applicable Engine Manual unless you receive approval to use an alternative method of compliance under paragraph (h) of this AD. Section 43.16 of the Federal Aviation Regulations (14 CFR 43.16) may not be used to approve alternative methods of compliance or adjustments to the times in which these inspections must be performed.

(h) The Manager, Engine Certification Office, has the authority to approve alternative methods of compliance for this AD if requested using the procedures found in 14 CFR 39.19.

Maintaining Records of the Mandatory Inspections

(i) You have met the requirements of this AD by using a TLS of the manufacturer's engine manual changed as specified in paragraph (f) of this AD, and, for air carriers operating under part 121 of the Federal Aviation Regulations (14 CFR part 121), by modifying your continuous airworthiness maintenance plan to reflect those changes. You must maintain records of the mandatory inspections that result from those changes to the TLS according to the regulations governing your operation. You do not need to record each piece-part inspection as compliance to this AD. For air carriers operating under part 121, you may use either the system established to comply with § 121.369 or use an alternative system that your principal maintenance inspector has accepted if that alternative system:

(1) Includes a method for preserving and retrieving the records of the inspections resulting from this AD; and

(2) Meets the requirements of § 121.369(c); and

(3) Maintains the records either indefinitely or until the work is repeated.

(j) These record keeping requirements apply only to the records used to document the mandatory inspections required as a result of revising the TLS as specified in paragraph (f) of this AD, and do not alter or amend the record keeping requirements for any other AD or regulatory requirement.

Related Information

(k) None.

Issued in Burlington, Massachusetts, on August 11, 2004.
Ann Mollica,
Acting Manager, Engine and Propeller Directorate, Aircraft Certification Service.

[FR Doc. 04-18919 Filed 8-17-04; 8:45 am]

BILLING CODE 4910-13-P